DEPARTMENT OF TRANSPORTATION

Pipeline and Hazardous Materials Safety Administration

[Docket No. PHMSA-2007-27181 (Notice No. 08-5)]

Notice of Information Collection Approval

AGENCY: Pipeline and Hazardous Materials Safety Administration (PHMSA), DOT.

ACTION: Notice of Information Collection Approval.

SUMMARY: This notice announces Office of Management and Budget (OMB) approval and extension until March 31, 2010 for the following information collection requests (ICRs): OMB Control No. 2137-0572, “Testing Requirements for Non-Bulk Packaging”; and approval and extension until August 31, 2010 for OMB Control No. 2137-0039, “Hazardous Materials Incidents.”

This notice also announces OMB approval and extension until October 31, 2010 for the following ICRs: OMB Control No. 2137-0018, “Inspection and Testing of Portable Tanks and Intermediate Bulk Containers”; and OMB Control No. 2137-0595, “Cargo Tank Motor Vehicles in Liquefied Compressed Gas Service.”

Additionally, this notice announces OMB approval and extension until February 28, 2011 for the following ICRs: OMB Control No. 2137-0014, “Cargo Tank Specification Requirements”; OMB Control No. 2137-0542, “Flammable Cryogenic Liquids”; OMB Control No. 2137-0582, “Container Certification Statements”; and OMB Control No. 2137-0591, “Response Plans for Shipments of Oil.”

DATES: The expiration dates for these ICRs are either March 31, 2010, August 31, 2010, October 31, 2010, or February 28, 2011 as indicated under the SUPPLEMENTARY INFORMATION section of this notice.

ADDRESSES: Requests for a copy of an information collection should be directed to Deborah Boothe or T. Glenn Foster, Office of Hazardous Materials Standards (PHH-11), Pipeline and Hazardous Materials Safety Administration, 1200 New Jersey Avenue, SE., Washington, DC 20590-0001.

FOR FURTHER INFORMATION CONTACT: Deborah Boothe or T. Glenn Foster, Office of Hazardous Materials Standards (PHH-11), Pipeline and Hazardous Materials Safety Administration, 1200 New Jersey Avenue, SE., Washington, DC 20590-0001, Telephone (202) 366-8553.

SUPPLEMENTARY INFORMATION: Office of Management and Budget (OMB) regulations (5 CFR 1320) implementing provisions of the Paperwork Reduction Act of 1995 (Pub. L. 104-13) require that interested members of the public and affected agencies have an opportunity to comment on information collection and recordkeeping activities (see 5 CFR 1320.8(s)) and specify that no person is required to respond to an information collection unless it displays a valid OMB control number. In accordance with the Paperwork Reduction Act of 1995, PHMSA has received OMB approval for renewal of the following ICRs:

OMB Control Number: 2137-0572.

Title: “Testing Requirements for Non-Bulk Packaging.”

Expiration Date: March 31, 2010.

OMB Control Number: 2137-0039.

Title: “Hazardous Materials Incident Reports.”

Expiration Date: August 31, 2010.

OMB Control Number: 2137-0018.

Title: “Inspection and Testing of Portable Tanks and Intermediate Bulk Containers.”

Expiration Date: October 31, 2010.

OMB Control Number: 2137-0595.

Title: “Cargo Tank Motor Vehicles in Liquefied Compressed Gas Service.”

Expiration Date: October 31, 2010.

OMB Control Number: 2137-0014.

Title: “Cargo Tank Specification Requirements.”

Expiration Date: February 28, 2011.

OMB Control Number: 2137-0542.

Title: “Flammable Cryogenic Liquids.”

Expiration Date: February 28, 2011.

OMB Control Number: 2137-0582.

Title: “Container Certification Statements.”

Expiration Date: February 28, 2011.

OMB Control Number: 2137-0591.

Title: “Response Plans for Shipments of Oil.”

Expiration Date: February 28, 2011.

Issued in Washington, DC on April 15, 2008.
Edward T. Mazzullo,
Director, Office of Hazardous Materials Standards.

[FR Doc. E8-8512 Filed 4-17-08; 8:45 am]

BILLING CODE 4910-60-P